DEPARTMENT OF JUSTICE

Membership of the 2003 Senior Executive Service Performance Review Boards

AGENCY: Department of Justice.

ACTION: Notice of Department of Justice's 2003 Senior Executive Service Performance Review Boards.

SUMMARY: Pursuant to the requirements of 5 U.S.C. 4314(c)(4), the Department of Justice announces the membership of its Senior Executive Service (SES) Performance Review Boards (PRB). The purpose of the PRB is to provide fair and impartial review of SES performance appraisals and bonus recommendations. The PRBs will make recommendations regarding the final performance ratings to be assigned and SES bonuses to be awarded.

FOR FURTHER INFORMATION CONTACT: Debra M. Tomchek, Director, Personnel Staff, Justice Management Division, Department of Justice, Washington, DC 20530; 202-514-6788.

Department of Justice, 2003 Senior Executive Service Performance Review Board Members

Office of Legal Counsel

Frits Geursten, Chief of Staff.

Office of Professional Responsibility

Judith B. Wish, Deputy Counsel on Professional Responsibility.

Office of Intelligence Policy and Review

James A. Baker, Counsel for Intelligence Policy.

Margaret A. Skelly-Nolen, Deputy Counsel for Intelligence Operations.

Office of Information and Privacy

Daniel J. Metcalfe, Director (Policy and Litigation).

Antitrust Division

Nancy M. Goodman, Chief, Telecommunications & Media Section.

Edward T. Hand, Acting Deputy Assistant Attorney General.

Catherin G. O'Sullivan, Chief, Appellate Section.

Robert A. Potter, Chief, Legal Policy Section.

Civil Division

Joyce R. Brenda, Deputy Director, Commercial Litigation Branch.

John L. Euler, Deputy Director, Torts Branch.

Vincent M. Garvey, Deputy Director, Federal Programs Branch.

Helene M. Goldberg, Branch Director, Torts Branch.

Eugene M. Thirolf, Director, Office of Consumer Litigation.

Civil Rights Division

James S. Angus, Counsel to the Assistant Attorney General.

DeDe Greene, Executive Officer.

Albert N. Moskowitz, Chief, Criminal Section.

John L. Wodatch, Chief, Environmental Enforcement Section.

Criminal Division

Jodi L. Avergun, Chief, Narcotic and Dangerous Drug Section.

Joseph E. Gangloff, Senior Counsel, Office of International Affairs.

Martha J. Stansell-Gamm, Chief, Computer Crime & Intellectual Property Section.

Mary Lee Warren, Deputy Assistant Attorney General.

Environment and Natural Resources Division

Virginia P. Butler, Chief, Land Acquisition Section.

Brue S. Gelber, Chief, Environmental Enforcement Section.

Eileen Sobeck, Deputy Assistant Attorney General.

Jean E. Williams, Chief, Wildlife and Marine Resources Section.

Justice Management Division

Michael D. Duffy, Director, Telecommunications Services.

Stuart Frisch, General Counsel.

Kathleen A. Haggerty, Director, Debt Collection Management.

Debra M. Tomchek, Director, Human Resources.

Tax Division

David A. Hubbert, Chief, Civil Trial Section, Eastern Region.

Rosemary E. Paguni, Chief, Criminal Enforcement Section, Northern Region.

Robert S. Watkins, Chief, Civil Trial Section, Western Region.

Joseph E. Young, Executive Officer.

Bureau of Prisons

Robin L. Beusse, Chief, Budget Development Administration Division.

Joyce K. Conley, Senior Deputy Assistant Director, Administration Division.

Christopher Erlewine, Assistant Director, General Counsel and Review Division.

Keith E. Hall, Assistant Director, Human Resource Management Division.

John C. Hardwick, Deputy Assistant Director, Information, Policy, and Public Affairs Division.

Thomas R. Kane, Assistant Director, Information, Policy, and Public Affairs Division.

United States Marshals Service

Michael A. Pearson, Acting Assistant Director.

Office of Justice Programs

Gary N. Silver, Director of Administration.

Executive Office for Immigration Review

Charles Adkins-Blanch, General Counsel.

Executive Office for United States Trustees

Jeffrey M. Miller, Associate Director.

Edward F. Cincinnati, Assistant Director for Administration.

National Drug Intelligence Center

Michael T. Horn, Director, National Drug Intelligence Center.

Alcohol, Tobacco, Firearms and Explosives

Steve L. Mathis, Chair Professional Review Board.

Candace E. Moberly, Deputy Assistant Director (Management).

Mark Logan, Assistant Director (Training and Professional Development).

Edgar A. Domench, Deputy Assistant Director, Field Operations (East).

Sherry A. Mahoney,
Acting Executive Secretary, Senior Executive Resources Board.

[FR Doc. 03-16997 Filed 7-3-03; 8:45 am]

BILLING CODE 4410-AR-M